DEPARTMENT OF ENERGY

Federal Energy Regulatory Commission

Sunshine Act; Meeting

Agency Holding Meeting: Federal Energy Regulatory Commission.

Federal Register Citation of Previous Announcement: January 11, 2002, 67 FR 1460.

Previously Announced Time and Date of Meeting: January 16, 2002 (30 Minutes Following Regular Commission Meeting).

Change in the Meeting: The Closed Meeting scheduled for January 16, 2002, has been cancelled.

Linwood A. Watson, Jr.,
Acting Secretary.

[FR Doc. 02-1564 Filed 1-16-02; 4:20 pm]

BILLING CODE 6717-01-P